DEPARTMENT OF LABOR

Employment and Training Administration

[TA-W-80,532B]

Advanced Energy Industries, Inc., Including On-Site Leased Workers From Mid Oregon Personnel, Including Workers Whose Unemployment Insurance (UI) Wages Are Reported Through PV Powered, Currently Known as AE Solar Energy, Inc. Bend, OR; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 30, 2011, applicable to workers of Advanced Energy Industries, Inc., including on-site leased workers of Mid Oregon Personnel, Bend, Oregon. The workers are engaged in activities related to the production of solar invert subcomponents, including thin films processing power conversion and thermal instrumentation products and solar energy inverters. The notice was published in the Federal Register on December 13, 2011(76 FR 77556).

At the request of the State agency, the Department reviewed the certification for workers of the subject firm. New information shows that Advanced Energy Industries purchased PV Powered, currently known as AE Solar Energy, Inc. in May 2010.

Some workers separated from employment at the Bend, Oregon location only had their wages reported through a separate unemployment insurance (UI) tax account under the name PV Powered, currently known as AE Solar Energy, Inc.

Accordingly, the Department is amending this certification to properly reflect this matter.

The intent of the Department's certification is to include all workers of the subject firm who were adversely affected by a shift in the production of solar invert subcomponents, including thin films processing power conversion and thermal instrumentation products and solar energy inverters to China.

The amended notice applicable to TA-W-80,532 is hereby issued as follows:

All workers of Advanced Energy Industries, Inc., including on-site leased workers of Mid Oregon Personnel, including workers whose unemployment insurance (UI) wages are reported through PV Powered, currently known as AE Solar Energy, Inc., Bend Oregon, who became totally or partially separated from employment on or after October 18, 2010, through November 30, 2013, are eligible to apply for adjustment assistance under Section 223 of the Trade Act of 1974, and are also eligible to apply for alternative trade adjustment assistance under Section 246 of the Trade Act of 1974.

Signed at Washington, DC this 19th day of January 2012.
Del Min Amy Chen,
Certifying Officer, Office of Trade Adjustment Assistance.

[FR Doc. 2012-1780 Filed 1-26-12; 8:45 am]

BILLING CODE 4510-FN-P